ENVIRONMENTAL PROTECTION AGENCY

[EPA-HQ-OPP-2025-0030; FRL-12881-01-OCSPP]

Pesticides: Notice of Receipt of Requests to Voluntarily Cancel Certain Pesticide Registrations With a 30-Day Comment Period (June 2025)

AGENCY: Environmental Protection Agency (EPA).

ACTION: Notice.

SUMMARY: This document announces the Agency's receipt of and solicits comment on requests by registrants to voluntarily cancel their pesticide registrations. In accordance with the Federal Insecticide, Fungicide, and Rodenticide Act (FIFRA), EPA provides a periodic notice of receipt addressing requests received by EPA since the last notice of receipt was issued and uses the month and year in the title to help distinguish one document from the other. For this notice, EPA has compiled the requests received between April 1, 2025, and June 30, 2025. EPA intends to grant these requests at the close of the comment period for this announcement unless the Agency receives substantive comments during the comment period that would merit further review of the requests, or the request is withdrawn by the registrant. If these requests are granted, EPA will issue an order in the Federal Register cancelling the listed product registrations, after which any sale, distribution, or use of the products listed in this document will only be permitted after the registrations have been cancelled if such sale, distribution, or use is consistent with the terms as described in the final order.

DATES: Comments and withdrawal requests must be received on or before September 2, 2025.

ADDRESSES: Submit your comments, identified by docket identification (ID) number EPA-HQ-OPP-2025-0030, online at https://www.regulations.gov. Follow the online instructions for submitting comments. Do not submit electronically any information you consider to be Confidential Business Information (CBI) or other information whose disclosure is restricted by statute. Additional instructions on commenting and visiting the docket, along with more information about dockets generally, is available at https://www.epa.gov/dockets.

FOR FURTHER INFORMATION CONTACT: Christopher Green, Registration Division (7505M), Office of Pesticide Programs, Environmental Protection Agency, 1200 Pennsylvania Ave. NW, Washington, DC 20460-0001; telephone number: (202) 566-2707; email address: green.christopherRDFRNotices@epa.gov.

SUPPLEMENTARY INFORMATION:

I. Executive Summary

A. Does this action apply to me?

This action is directed to the public and may be of interest to a wide range of stakeholders including environmental, human health, and agricultural advocates; the chemical industry; pesticide users; and members of the public interested in the sale, distribution, or use of pesticides.

B. What action is the Agency taking?

This document announces receipt by EPA of requests from registrants to voluntarily cancel their pesticide registrations listed in Unit II., that are currently registered under FIFRA section 3 (7 U.S.C. 136a) or section 24(c) (7 U.S.C. 136v(c)). EPA has compiled the requests received between April 1, 2025, and June 30, 2025. Unless the Agency determines that there are substantive comments that warrant further review of the requests or the registrants withdraw their requests, EPA intends to issue an order in the Federal Register canceling the affected registrations.

C. What is EPA's authority for taking this action?

FIFRA section 6(f)(1) (7 U.S.C. 136d(f)(1)) provides that a registrant of a pesticide product may at any time request that any of its pesticide registrations be canceled. Before acting on a request for voluntary cancellation, EPA must provide at least a 30-day public comment period on the request. Before acting on a request for voluntary cancellation, FIFRA further provides that, before acting on a request for voluntary cancellation or termination of any minor agricultural use, EPA must provide a 180-day comment period unless:

1. The registrants request a waiver of the comment period, or

2. The EPA Administrator determines that continued use of the pesticide would pose an unreasonable adverse effect on the environment.

The registrants in Table 2 of Unit II, have requested that EPA waive the 180-day comment period. Accordingly, this document provides a 30-day comment period on these requests.

D. What should I consider as I prepare my comments for EPA?

1. Submitting CBI. Do not submit this information to EPA through email or https://www.regulations.gov. If you wish to include CBI in your comment, please follow the applicable instructions at https://www.epa.gov/dockets/commenting-epa-dockets#rules and clearly mark the information that you claim to be CBI. In addition to one complete version of the comment that includes CBI, a copy of the comment without CBI must be submitted for inclusion in the public docket. Information marked as CBI will not be disclosed except in accordance with procedures set forth in 40 CFR part 2.

2. Tips for preparing your comments. When preparing and submitting your comments, see the commenting tips at https://www.epa.gov/dockets/commenting-epa-dockets.

E. How can a registrant withdraw their request for voluntary cancellation?

Registrants who choose to withdraw their request for voluntary cancellation should submit a withdrawal request in writing to the person listed under FOR FURTHER INFORMATION CONTACT. If the products have been subject to a previous cancellation action, the effective date of cancellation and all other provisions of any earlier cancellation action are controlling.

II. Requests to Voluntarily Cancel Certain Registrations

The registrations with pending voluntary requests for cancellation are listed in sequence by registration number (or company number and 24(c) number) in Table 1 of this unit.

Table 1—Registrations With Pending Voluntary Requests for Cancellation
Registration No. | Company No. | Product name | Active ingredient
71-1 | 71 | 0.5% Permethrin Aerosol Spray | Permethrin (109701/52645-53-1)—(.5%).
100-1728 | 100 | CSI 15-107A I-N-P Cockroach Gel Bait | Indoxacarb (067710/173584-44-6)—(.6%), Novaluron (124002/116714-46-6)—(.1%), Pyriproxyfen (129032/95737-68-1)—(.1%).
228-655 | 228 | Nufarm T-Methyl 70 WSB Fungicide | Thiophanate-methyl (102001/23564-05-8)—(70%).
241-384 | 241 | Lightning D Herbicide | Dicamba, sodium salt (029806/1982-69-0)—(58.9%), Imazapyr (128821/81334-34-1)—(4%), Imazethapyr (128922/81335-77-5)—(12%).
241-393 | 241 | Plateau DG Herbicide | Imazapic (129041/104098-48-8)—(70%).
538-88 | 538 | Systemic Fungicide | Thiophanate-methyl (102001/23564-05-8)—(2.3%).
538-133 | 538 | Proturf Fertilizer Plus DSB Fungicide | Thiophanate-methyl (102001/23564-05-8)—(1.75%).
1001-63 | 1001 | 3336 WP Turf and Ornamental Systemic Fungicide | Thiophanate-methyl (102001/23564-05-8)—(50%).
1001-78 | 1001 | 3336 Plus Systemic Fungicide | Thiophanate-methyl (102001/23564-05-8)—(19.4%).
1001-80 | 1001 | Premium Systemic Fungicide | Thiophanate-methyl (102001/23564-05-8)—(44.62%).
1001-81 | 1001 | 3336(R) 70EG | Thiophanate-methyl (102001/23564-05-8)—(70%).
1001-85 | 1001 | Culver Turf And Ornamental Fungicide | Chlorothalonil (081901/1897-45-6)—(54%).
1381-222 | 1381 | Thiophanate-Methyl 45% F Fungicide | Thiophanate-methyl (102001/23564-05-8)—(46.2%).
1381-228 | 1381 | Thiophanate-Methyl 50% WSB Fungicide | Thiophanate-methyl (102001/23564-05-8)—(50%).
2693-107 | 2693 | Fiberglass Bottomkote Antifouling Paint Black 779 | Cuprous oxide (025601/1317-39-1)—(42.75%).
2724-674 | 2724 | Speer PY-Perm Aqueous Insect Killer #2 | Permethrin (109701/52645-53-1)—(.2%), Piperonyl butoxide (067501/51-03-6)—(.5%), Pyrethrins (069001/8003-34-7)—(.1%).
5481-583 | 5481 | Durham Ornamental 3.5 | Metaldehyde (053001/108-62-3)—(3.5%).
7969-285 | 7969 | Prescription Treatment Brand Phantom Pressurized Insecticide | Chlorfenapyr (129093/122453-73-0)—(.5%).
9386-42 | 9386 | AMA-2500G | Glutaraldehyde (043901/111-30-8)—(25%).
9779-328 | 9779 | Terranil 90DF WSP | Chlorothalonil (081901/1897-45-6)—(90%).
9779-337 | 9779 | Terranil S | Chlorothalonil (081901/1897-45-6)—(19.15%), Sulfur (077501/7704-34-9)—(27.25%).
19713-340 | 19713 | Rabex Livestock Dust | Gardona (cis-isomer) (083702/22248-79-9)—(3%).
34704-870 | 34704 | Chlorothalonil 6 | Chlorothalonil (081901/1897-45-6)—(54%).
34704-874 | 34704 | Applause DF Fungicide | Chlorothalonil (081901/1897-45-6)—(90%).
34704-878 | 34704 | Chlorothalonil 90DF | Chlorothalonil (081901/1897-45-6)—(90%).
34704-914 | 34704 | Chlorothalonil 825 Agricultural Fungicide | Chlorothalonil (081901/1897-45-6)—(82.5%).
34704-932 | 34704 | Thio-M 50 WSB Fungicide | Thiophanate-methyl (102001/23564-05-8)—(50%).
42750-350 | 42750 | ST Pre-Mix #9 | Azoxystrobin (128810/131860-33-8)—(1.18%), Metalaxyl (113501/57837-19-1)—(8.83%), Thiabendazole (060101/148-79-8)—(2.94%), Thiophanate-methyl (102001/23564-05-8)—(2.35%).
42750-353 | 42750 | ST Pre-Mix #11 | Fludioxonil (071503/131341-86-1)—(.81%), Imidacloprid (129099/138261-41-3)—(20.17%), Metalaxyl (113501/57837-19-1)—(5.05%), Thiophanate-methyl (102001/23564-05-8)—(3.28%).
42750-379 | 42750 | ST Pre-Mix #20 | Azoxystrobin (128810/131860-33-8)—(.71%), Imidacloprid (129099/138261-41-3)—(21.14%), Metalaxyl (113501/57837-19-1)—(5.28%), Thiabendazole (060101/148-79-8)—(1.76%), Thiophanate-methyl (102001/23564-05-8)—(1.4%).
42750-410 | 42750 | Invicar 2SC Insecticide | Methoxyfenozide (121027/161050-58-4)—(22.6%).
60063-2 | 60063 | Echo 75 WDG | Chlorothalonil (081901/1897-45-6)—(75%).
60063-16 | 60063 | Echo Home Garden Fungicide | Chlorothalonil (081901/1897-45-6)—(12.5%).
60063-30 | 60063 | Echo RTU | Chlorothalonil (081901/1897-45-6)—(.087%).
60063-36 | 60063 | Echo Ultimate ETQ | Chlorothalonil (081901/1897-45-6)—(82.5%).
60063-47 | 60063 | Echo 378/Cymoxanil 50 | Chlorothalonil (081901/1897-45-6)—(31.51%), Cymoxanil (129106/57966-95-7)—(4.2%).
60063-49 | 60063 | Muscle ADV | Chlorothalonil (081901/1897-45-6)—(30.51%), Tebuconazole (128997/107534-96-3)—(8.47%).
60063-55 | 60063 | CTL + IPRO Turf and Ornamental Fungicide | Chlorothalonil (081901/1897-45-6)—(28%), Iprodione (109801/36734-19-7)—(14%).
60063-82 | 60063 | Tetraconazole + Thiophanate-Methyl | Tetraconazole (120603/112281-77-3)—(4.2%), Thiophanate-methyl (102001/23564-05-8)—(21.27%).
60063-84 | 60063 | Tetraconazole TM | Tetraconazole (120603/112281-77-3)—(4.2%), Thiophanate-methyl (102001/23564-05-8)—(21.27%).
70060-12 | 70060 | CSR-2 | Sodium chlorite (020502/7758-19-2)—(5%).
70060-13 | 70060 | CSR-1 | Sodium chlorite (020502/7758-19-2)—(5%).
70060-32 | 70060 | Aseptrol CSR Wax Paper | Sodium chlorite (020502/7758-19-2)—(.63%).
83070-1 | 83070 | Tee-Off 4.5F | Thiophanate-methyl (102001/23564-05-8)—(46.2%).
83070-12 | 83070 | Mazinga Fungicide | Chlorothalonil (081901/1897-45-6)—(27.69%), Tetraconazole (120603/112281-77-3)—(2.09%).
83070-13 | 83070 | Andiamo Duo | Tetraconazole (120603/112281-77-3)—(4.2%), Thiophanate-methyl (102001/23564-05-8)—(21.27%).
89442-6 | 89442 | Chlorothalonil 82.5DF Select | Chlorothalonil (081901/1897-45-6)—(82.5%).
89442-9 | 89442 | Chlorothalonil 720 Select | Chlorothalonil (081901/1897-45-6)—(54%).
92044-2 | 92044 | Chlorothalonil 720SC | Chlorothalonil (081901/1897-45-6)—(54%).
92044-3 | 92044 | Chlorothalonil 82.5 WDG | Chlorothalonil (081901/1897-45-6)—(82.5%).
100522-11 | 100522 | SA Pendimethalin Technical | Pendimethalin (108501/40487-42-1)—(97.2%).
AK-160001 | 67690 | SP 1908 Aquatic Herbicide | Fluridone (112900/59756-60-4)—(6.3%).
AR-130003 | 279 | Spartan Charge Herbicide | Carfentrazone-ethyl (128712/128639-02-1)—(3.53%), Sulfentrazone (129081/122836-35-5)—(31.77%).
AR-190001 | 100 | Gramoxone SL 2.0 | Paraquat dichloride (061601/1910-42-5)—(30.1%).
MO-150001 | 87290 | Willowood Clomazone 3ME | Clomazone (125401/81777-89-1)—(31.1%).
OR-090006 | 62719 | Rally 40WSP | Myclobutanil (128857/88671-89-0)—(40%).
OR-140011 | 34704 | LPI Glufosinate 280 | Glufosinate (128850/77182-82-2)—(24.5%).
OR-150004 | 352 | Curzate 60DF | Cymoxanil (129106/57966-95-7)—(60%).
OR-150008 | 279 | Zeus XC Herbicide (Alternate) | Sulfentrazone (129081/122836-35-5)—(39.6%).
OR-180007 | 51036 | Kumulus DF | Sulfur (077501/7704-34-9)—(80%).
OR-190006 | 10163 | Eptam 7E Selective Herbicide | Carbamothioic acid, dipropyl-, S-ethyl ester (041401/759-94-4)—(87.8%).
OR-210002 | 56228 | Compound DRC-1339 Concentrate-Livestock Nest & Fodder Depredations | Starlicide (009901/7745-89-3)—(97%).
OR-220004 | 352 | Dupont Fontelis Fungicide | Penthiopyrad (090112/183675-82-3)—(20.4%).
WA-070008 | 70506 | Acramite-4SC | Bifenazate (000586/149877-41-8)—(43.2%).
WA-150003 | 70506 | Acramite-4SC | Bifenazate (000586/149877-41-8)—(43.2%).
WI-210002 | 60063 | Echo 720 | Chlorothalonil (081901/1897-45-6)—(54%).
WI-210003 | 60063 | Echo 90DF | Chlorothalonil (081901/1897-45-6)—(90%).
WI-210004 | 60063 | Echo ZN | Chlorothalonil (081901/1897-45-6)—(38.5%).

The registrants of products identified in Table 1A of this unit have requested 18-months to sell existing stocks of those products.

Table 1A—Registrations With Pending Voluntary Requests for Cancellation, Cont'd
Registration No. | Company No. | Product name | Active ingredient
6836-389 | 6836 | Barrachlor Fungicide | Chlorothalonil (081901/1897-45-6)—(54%).
70506-43 | 70506 | Surflan A.S. Herbicide | Oryzalin (104201/19044-88-3)—(40.4%).
70506-46 | 70506 | Surflan Dry Flowable | Oryzalin (104201/19044-88-3)—(85%).
70506-458 | 70506 | Ethephon 6 | Ethephon (099801/16672-87-0)—(55.4%).
70506-459 | 70506 | Ethephon 2# | Ethephon (099801/16672-87-0)—(21.7%).
70506-304 | 70506 | Andersons Golf Products Fungo Flo | Thiophanate-methyl (102001/23564-05-8)—(45%).
70506-558 | 70506 | Doubletake | Diflubenzuron (108201/35367-38-5)—(22%), lambda-Cyhalothrin (128897/91465-08-6)—(11%).
70506-561 | 70506 | Doubletake SE | Diflubenzuron (108201/35367-38-5)—(22%), lambda-Cyhalothrin (128897/91465-08-6)—(11%).

The name and address of record for the requesting registrants are listed in sequence by EPA company number in Table 2 of this unit. The company number corresponds to the first part of the EPA registration numbers of the products listed in Tables 1 and 1A of this unit.

Table 2—Registrants Requesting Voluntary Cancellation
Company No. | Company name and address
71 | L. Perrigo Company, 515 Eastern Avenue, Allegan, MI 49010.
100 | Syngenta Crop Protection, LLC, 410 Swing Road, P.O. Box 18300, Greensboro, NC 27419-8300.
228 | Nufarm Americas, Inc., 4000 Aerial Center Pkwy., Suite 101, Morrisville, NC 27560.
241 | BASF Agricultural Solutions US, LLC, 2 TW Alexander Drive, Research Triangle Park, NC 27713.
279 | FMC Corporation, 2929 Walnut Street, Philadelphia, PA 19104.
352 | Corteva Agriscience, LLC, 9330 Zionsville Road, Indianapolis, IN 46268.
538 | Scotts Company, The, 14111 Scottslawn Road, Marysville, OH 43041.
1001 | Cleary Chemicals, LLC, Agent Name: Nufarm Americas, Inc., 4000 Aerial Center Pkwy., Suite 101, Morrisville, NC 27560.
1381 | Winfield Solutions, LLC, P.O. Box 64589, St. Paul, MN 55164-0589.
2693 | International Paint, LLC, 6001 Antoine Drive, Houston, TX 77091.
2724 | Wellmark International, 1501 E Woodfield Road, Suite 200 West, Schaumburg, IL 60173.
5481 | AMVAC Chemical Corporation, 4695 Macarthur Court, Suite 1200, Newport Beach, CA 92660-1706.
6836 | Arxada, LLC, 412 Mount Kemble Avenue, Suite 200S, Morristown, NJ 07960.
7969 | BASF Agricultural Solutions US, LLC, 2 TW Alexander Drive, Research Triangle Park, NC 27713.
9386 | Kemira Water Solutions, Inc., Agent Name: Ramboll, 4245 North Fairfax Drive, Suite 700, Arlington, VA 22203.
9779 | Winfield Solutions, LLC, P.O. Box 64589, St. Paul, MN 55164-0589.
10163 | Gowan Company, LLC, 370 S Main St., Yuma, AZ 85364.
19713 | Drexel Chemical Company, P.O. Box 13327, Memphis, TN 38113-0327.
34704 | Loveland Products, Inc., Agent Name: Pyxis Regulatory Consulting, Inc., 4110 136th Street Ct. NW, Gig Habor, WA 98332.
42750 | Albaugh, LLC, 1525 NE 36th Street, Ankeny, IA 50021.
51036 | BASF Agricultural Solutions US, LLC, 2 TW Alexander Drive, Research Triangle Park, NC 27713.
56228 | U.S. Department of Agriculture, Animal and Plant Health Inspection Service, 4700 River Road, Riverdale, MD 20737.
60063 | Sipcam Agro USA, Inc., 2525 Meridian Pkwy, Durham, NC 27713.
62719 | Corteva Agriscience, LLC, 9330 Zionsville Road, Indianapolis, IN 46268.
67690 | SePRO Corporation, 11550 N Meridian Street, Suite 600, Carmel, IN 46032.
70060 | BASF Corporation, Agent Name: Lewis & Harrison, LLC, 2461 S Clark St., Suite 710, Arlington, VA 22202.
70506 | MacDermid Agricultural Solutions, Inc., Agent Name: UPL NA, Inc., 630 Freedom Business Center, Suite 402, King of Prussia, PA 19406.
83070 | Advan, LLC, 2525 Meridian Pkwy., Durham, NC 27713.
87290 | Generic Crop Science, LLC, Agent Name: SynTech Research Group, 7217 Lancaster Pike, Suite A, P.O. Box 640, Hockessin, DE 19707.
89442 | Prime Source, A Division of Albaugh, LLC, 1525 Ne 36th Street, Ankeny, IA 50021.
92044 | CAC Chemical Americas, LLC, Agent Name: Pyxis Regulatory Consulting, Inc., 535 Dock Street, Suite 211, Tacoma, WA 98402.
100522 | Sullution Agro, LLC, Agent Name: Pyxis Regulatory Consulting, Inc., 535 Dock Street, Suite 211, Tacoma, WA 98402.

III. Provisions for Disposition of Existing Stocks

Existing stocks are those stocks of registered pesticide products that are currently in the United States, and that were packaged, labeled, and released for shipment prior to the effective date of the cancellation, which will be the date of publication of the cancellation order in the Federal Register. In any order issued in response to these requests, EPA anticipates including the following provisions for the treatment of any existing stocks of the products listed in Unit II:

For voluntary cancellations of the registrations listed in Table 1 of Unit II, registrants will be permitted to sell and distribute existing stocks of voluntarily canceled products for 1 year after the effective date of publication of the cancellation order in the Federal Register. Thereafter, registrants will be prohibited from selling or distributing the products identified in Table 1 of Unit II, except for export consistent with FIFRA section 17 (7 U.S.C. 136o) or for proper disposal.

For those products identified in Table 1A of Unit II, the registrants have requested 18-months after the date of publication of the cancellation order in the Federal Register to sell existing stocks. Thereafter, the registrants will be prohibited from selling or distributing the products identified in Table 1A of Unit II., except for export consistent with FIFRA section 17 (7 U.S.C. 136o) or for proper disposal.

Persons other than the registrant will generally be allowed to sell, distribute, or use existing stocks of the canceled products until supplies are exhausted, provided that such sale, distribution, or use is consistent with the terms of the previously approved labeling on, or that accompanied, the canceled products.

Authority: 7 U.S.C. 136 et seq.

Dated: July 24, 2025.
Charles Smith,
Director, Registration Division, Office of Pesticide Programs.

[FR Doc. 2025-14492 Filed 7-30-25; 8:45 am]

BILLING CODE 6560-50-P